DEPARTMENT OF HEALTH AND HUMAN SERVICES

Food and Drug Administration

Women’s Health Dialogue; Public Meeting

AGENCY: Food and Drug Administration, HHS.

ACTION: Notice of meeting.

The Food and Drug Administration's (FDA) Office of Women’s Health is announcing the following meeting: Women’s Health Dialogue. The topics to be discussed are: Women in clinical trials, product safety, and consumer education and outreach.

Date and Time: The meeting will be held on April 18, 2001, from 10:30 a.m. to 5:30 p.m.

Location: Humbert Humphrey Bldg., 200 Independence Ave. NW., Washington, DC.

Contact: Gwen Jones, Office of Women’s Health, 301-827-3369, FAX: 301-827-0926. Space is limited. Please contact Gwen Jones by April 13, 2001.

If you need special accommodations due to a disability, please contact Gwen Jones at least 7 days in advance.

Dated: March 29, 2001.
William K. Hubbard,
Senior Associate Commissioner for Policy, Planning, and Legislation.

[FR Doc. 01-8201 Filed 4-3-01; 8:45 am]

BILLING CODE 4160-01-S